DEPARTMENT OF HOMELAND SECURITY

[Docket No. DHS-2012-0022]

Technical Resource for Incident Prevention (TRIPwire) User Registration

AGENCY: National Protection and Programs Directorate, DHS.

ACTION: 30-day notice and request for comments; Extension of previously approved collection: 1670-0028.

SUMMARY: The Department of Homeland Security Headquarters (DHS), National Protection and Programs Directorate (NPPD), Office of Infrastructure Protection (IP), Protective Security Coordination Division (PSCD), Office for Bombing Prevention (OBP) will submit the following Information Collection Request (ICR) to the Office of Management and Budget (OMB) for review and clearance in accordance with the Paperwork Reduction Act of 1995 (Pub. L. 104-13, 44 U.S.C. Chapter 35). NPPD is soliciting comments concerning New Information Collection Request—Technical Resource for Incident Prevention (TRIPwire) User Registration. DHS previously published this ICR in the Federal Register on September 4, 2015, for a 60-day public comment period. DHS received no comments. The purpose of this notice is to allow an additional 30 days for public comments.

DATES: Comments are encouraged and will be accepted until March 9, 2016. This process is conducted in accordance with 5 CFR 1320.10.

ADDRESSES: Interested persons are invited to submit written comments on the proposed information collection to the Office of Information and Regulatory Affairs, OMB. Comments should be addressed to OMB Desk Officer, DHS, Office of Civil Rights and Civil Liberties. Comments must be identified by “DHS-2012-0022” and may be submitted by one of the following methods:

• Federal eRulemaking Portal: http://www.regulations.gov.

• Email: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Dennis Malloy, DHS/NPPD/IP/PSCD/OBP, Dennis.Malloy@hq.dhs.gov.

SUPPLEMENTARY INFORMATION: TRIPWire is OBP's online, collaborative, information-sharing network for bomb squad, law enforcement, and other emergency services personnel to learn about current terrorist improvised explosive device (IED) tactics, techniques, and procedures, including design and emplacement considerations. TRIPwire was established as an IED information-sharing resource under Homeland Security Presidential Directive 19 (HSPD-19), which calls for a unified national policy for the prevention and detection of, protection against, and response to terrorist use of explosives in the United States. Users from Federal, State, local, and tribal government entities; as well as business and for-profit industries can register through the TRIPwire Secure Portal. The TRIPwire portal contains sensitive information related to terrorist use of explosives, and, therefore, user information is needed to verify eligibility and access to the system. TRIPwire applicants must provide their full name, assignment, citizenship, job title, employer name, professional address and contact information, as well as an Employment Verification Contact and their contact information. The system does not store sensitive personally identifiable information (PII) such as social security numbers. The collection of PII by TRIPwire to establish user accounts occurs in accordance with the DHS Privacy Impact Assessment PIA-015, “DHS Web Portals,” DHS/ALL-004—General Information Technology Access Account Records System (GITAARS) November 27, 2012, 77 FR 70792, and DHS/ALL-002—Department of Homeland Security Mailing and Other Lists System November 25, 2008, 73 FR 71659. Participation in TRIPwire is voluntary. However, those who choose to participate are required to complete the registration process to obtain access. This requirement is designed to measure users' suitability to access the secure environment.

The information collected during the TRIPwire user registration process is reviewed electronically by the TRIPwire team to vet the user's “need to know,” which determines their eligibility for and access to TRIPwire. Memberships are re-verified annually based on the information users provide upon registration or communication with the TRIPwire help desk analysts. The information collected is for internal TRIPwire and OBP use only.

Analysis

Agency: Department of Homeland Security, National Protection and Programs Directorate, Office of Infrastructure Protection, Protective Security Coordination Division, Office for Bombing Prevention.

Title: Technical Resource for Incident Prevention (TRIPwire) User Registration.

OMB Number: 1670-0028.

Frequency: Once.

Affected Public: Federal, State, local, and tribal government entities, business, and for-profit.

Number of Respondents: 3,500 respondents (estimate).

Estimated Time per Respondent: 10 minutes.

Total Burden Hours: 595 annual burden hours.

Total Burden Cost (capital/startup): $0.

Total Recordkeeping Burden: $0 (This assessment resides on the TRIPwire Portal, and there is no cost associated with the recordkeeping of TRIPwire-related information.)

Total Burden Cost (operating/maintaining): $16,006.

Dated: February 1, 2016.
David Epperson,
Chief Information Officer, National Protection and Programs Directorate, Department of Homeland Security.

[FR Doc. 2016-02354 Filed 2-5-16; 8:45 am]

BILLING CODE 9110-9P-P